SURFACE TRANSPORTATION BOARD

[Docket No. FD 36531]

Midcoast Railservice, Inc.—Change of Operators Exemption—Central Maine & Quebec Railway US, Inc.

Midcoast Railservice, Inc. (Midcoast), a noncarrier, has filed a verified notice of exemption pursuant to 49 CFR 1150.31(a)(3) to assume operations over approximately 58.68 miles of rail line (the Line) currently operated by Central Maine & Quebec Railway US, Inc. (CMQ), pursuant to a Lease and Operating Agreement (the Agreement) between the owner of the Line, the State of Maine Department of Transportation (Maine DOT), and CMQ. The Line consists of: (1) The Brunswick Terminal Area between the east side of Church Road, milepost 14.97, and Rock Jct., milepost 16.40; (2) the Rockland Branch between milepost 29.40 in Brunswick, Cumberland County, Me., and milepost 85.55 in Rockland, Knox County, Me.; and (3) the Atlantic Branch Line between milepost 85.55 and milepost 86.65 in Rockland. The Line runs through Cumberland, Knox, Lincoln, and Sagadahoc Counties, Me.¹

¹ Midcoast notes that the mileposts and mileage differ slightly from those shown by CMQ when it took over operations of the Line in 2015. See Cent. Me. & Quebec Ry.—Lease & Operate Exemption—State of Me., FD 35975 (STB served Dec. 4, 2015). Midcoast believes the discrepancies relate to CMQ's use of control points, rounding, and typographical errors. Midcoast states that it will assume the operations of all of the lines operated by CMQ pursuant to the Agreement.

This transaction is related to a verified notice of exemption filed concurrently in Finger Lakes Railway—Continuance in Control Exemption—Midcoast Railservice, Inc., Docket No. FD 36532, in which Finger Lakes Railway Corp. seeks to continue in control of Midcoast upon Midcoast's becoming a rail carrier.

According to the verified notice, an Assignment, Assumption and Consent Agreement (the Assignment) has been executed by Midcoast and CMQ and consented to by Maine DOT. Under the Assignment, CMQ is assigning its rights under the Agreement, and its associated common carrier service rights to operate the Line, to Midcoast. Midcoast will assume the Agreement and become the operator of the Line. Upon commencement of operations, Midcoast will become a Class III common carrier.

According to Midcoast, the Agreement does not impose or include an interchange commitment. Midcoast certifies that its projected revenues as a result of the transaction will not result in the creation of a Class II or Class I rail carrier and that its revenues will not exceed $5 million.

Under 49 CFR 1150.32(b), a change in operator exemption requires that notice be given to shippers. Midcoast states that it provided notice to shippers on the Line by serving them with a copy of the verified notice, as indicated in the certificate of service.

The transaction may be consummated on or after September 8, 2021, the effective date of the exemption.

If the verified notice contains false or misleading information, the exemption is void ab initio. Petitions to revoke the exemption under 49 U.S.C. 10502(d) may be filed at any time. The filing of a petition to revoke will not automatically stay the effectiveness of the exemption. Petitions for stay must be filed no later than September 1, 2021 (at least seven days before the exemption becomes effective).

All pleadings, referring to Docket No. FD 36531, should be filed with the Surface Transportation Board via e-filing on the Board's website. In addition, a copy of each pleading must be served on Midcoast's representative, Eric M. Hocky, Clark Hill PLC, Two Commerce Square, 2001 Market St., Suite 2620, Philadelphia, PA 19103.

According to Midcoast, this action is categorically excluded from historic preservation reporting requirements under 49 CFR 1105.8(b) and from environmental reporting requirements under 49 CFR 1105.6(c).

Board decisions and notices are available at www.stb.gov.

Decided: August 20, 2021.
By the Board, Scott M. Zimmerman, Acting Director, Office of Proceedings.
Aretha Laws-Byrum,
Clearance Clerk.

[FR Doc. 2021-18278 Filed 8-24-21; 8:45 am]

BILLING CODE 4915-01-P